DEPARTMENT OF HOMELAND SECURITY

Coast Guard

33 CFR Part 100

[Docket No. USCG-2009-0948]

RIN 1625-AB43

Inland Navigation Rules; Correction

ACTION: Final rule; correction.

SUMMARY: In the Federal Register published on April 15, 2010, the Coast Guard placed the Inland Navigation Rules into the Code of Federal Regulations. That publication contained an error in the “Discussion of the Rule” section. This error does not impact the regulations, but has caused confusion among some members of the public.

DATES: This correction is effective July 20, 2010.

FOR FURTHER INFORMATION CONTACT: For information about this correction, contact Kevin d'Eustachio, Office of Regulations and Administrative Law, telephone (202) 372-3854, e-mail kevin.m.deustachio@uscg.mil. For information about the original regulation, contact LT Scott Medeiros, Office of Vessel Activities (CG-54133), telephone (202) 372-1565 Scott.R.Medeiros@uscg.mil.

SUPPLEMENTARY INFORMATION: In FR doc 2010-8532 appearing on page 20294 in the issue of Thursday, April 15, 2010, the following corrections are made:

1. On page 19545, in the first column, in the three places that “§ 83.185” appears, remove the numbers “§ 83.185” and replace with “§ 83.38”.

Dated: July 14, 2010.
Steve Venckus,
Office of Regulations and Administrative Law (CG-0943), U.S. Coast Guard.

[FR Doc. 2010-17663 Filed 7-19-10; 8:45 am]

BILLING CODE 9110-04-P